FEDERAL RESERVE SYSTEM

Agency Information Collection Activities: Announcement of Board Approval Under Delegated Authority and Submission to OMB

SUMMARY:

Background

Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Chief, Financial Reports Section—Mary M. West—Division of Research and Statistics, Board of Governors of the Federal Reserve System, Washington, DC 20551 (202-452-3829), OMB Desk Officer—Alexander T. Hunt—Office of Information and Regulatory Affairs, Office of Management and Budget, New Executive Office Building, Room 3208, Washington, DC 20503 (202-395-7860).

Final Approval Under OMB Delegated Authority of the Extension for Three Years, Without Revision, of the Following Report

1. Report title: The Recordkeeping and Disclosure Requirements in Connection with Regulation Z (Truth in Lending).

Agency form number: unnum Reg Z.

OMB Control Number: 7100-0199.

Frequency: Event-generated.

Reporters: State Member Banks.

Annual reporting hours: 1,863,754 hours.

Estimated average hours per response: Open-end credit: initial terms 2.5 minutes, change in terms 1 minute; Periodic statement 45 seconds; Error resolution 15 minutes; Credit and charge card accounts: Advance disclosures 10 seconds, renewal notice 5 seconds, insurance notice 15 seconds; Home equity plans: advance disclosure 2 minutes, change in terms 2 minutes; Closed-end credit disclosures 6.4 minutes; Advertising 30 minutes.

Number of respondents: 988.

Small businesses are affected.

General description of report: Title I of the Consumer Credit Protection Act (15 U.S.C. 1601 et seq.) authorizes the Board to issue regulations to carry out the provisions of the Consumer Credit Protection Act (15 U.S.C. 1604(a)). Since the Federal Reserve does not collect any information, no issue of confidentiality arises. Transaction-or account-specific disclosures and billing error allegations are not publicly available and are confidential between the creditor and consumer. Abstract: Regulation Z (12 CFR part 226) implements the Truth in Lending Act (15 U.S.C. 1601 et seq.). The act and regulation ensure adequate disclosure of the costs and terms of credit to consumers on an event-generated basis. For open-end credit (revolving credit accounts), creditors are required to disclose information about the initial costs and terms and to provide periodic statements of account activity, notices of change in terms, and statements of rights concerning billing error procedures. The regulation also requires specific types of disclosures for credit and charge card accounts, and home equity plans. For closed-end loans (such as mortgage and installment loans) cost disclosures are required to be provided prior to consummation. Specific products trigger special disclosures, such as reverse mortgages, certain variable rate loans, and certain mortgages with rates and fees above a specific amount. Regulation Z also contains rules concerning credit advertising. Creditors are required to retain records as evidence of compliance with Regulation Z for twenty-four months (subpart D, section 226.25).

Board of Governors of the Federal Reserve System, April 13, 2000.
Jennifer J. Johnson,
Secretary of the Board.

[FR Doc. 00-9677 Filed 4-17-00; 8:45 am]

BILLING CODE 6210-01-P